DEPARTMENT OF HOUSING AND URBAN DEVELOPMENT

[Docket No. FR-7027-N-11; OMB Control No.: 2502-0505

60-Day Notice of Proposed Information Collection: Capital Needs Assessment (CNAs)

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 29, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the Federal Relay Service at (800) 877-8339 (this is a toll-free number).

FOR FURTHER INFORMATION CONTACT: Colette Pollard, Reports Management Officer, QDAM, Department of Housing and Urban Development, 451 7th Street SW, Washington, DC 20410; email Colette Pollard at Colette.Pollard@hud.gov or telephone 202-402-3400(this is not a toll-free number). Persons with hearing or speech impairments may access this number through TTY by calling the Federal Relay Service at (800) 877-8339 (this is a toll-free number).

Copies of available documents submitted to OMB may be obtained from Ms. Pollard.

SUPPLEMENTARY INFORMATION: This notice informs the public that HUD is seeking approval from OMB for the information collection described in Section A.

A. Overview of Information Collection

Title of Information Collection: Capital Needs Assessment (CNAs).

OMB Approval Number: 2502-0505.

OMB Expiration Date: 08/31/2021.

Type of Request: Revision of a currently approved collection.

Form Number: N/A.

Description of the need for the information and proposed use: A Capital Needs Assessment is a detailed review of a property's expected capital expenditures over future years. It is needed to appropriately value a project/property, to determine financial sustainability, and to plan for funding of an escrow account to be used for capital repair and replacement needs during the estimate period. It is used by external parties, and HUD for valuation, underwriting, and asset management purposes. The proposed change involves the current excel assessment tool that is being rewritten and incorporated into the system for enhanced security and credentials.

Respondents (i.e., affected public): Assessor firms, lender originator, lender servicer, Participating Administrative Entity (PAE), Public Housing Agency (PHA) for RAD Projects, and the Project Rental Assistance Contract (PRAC) owner.

Estimated Number of Respondents: 2,041.

Estimated Number of Responses: 2,041.

Frequency of Response: Once periodically.

Average Hours per Response: 36 hours.

Total Estimated Burden: 73,476 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. 3507.

The Associate General Deputy Assistant Secretary, Vance T. Morris, having reviewed and approved this document, is delegating the authority to electronically sign this document to Aaron Santa Anna, who is the Federal Register Liaison for HUD, for purposes of publication in the Federal Register.

Dated: March 24, 2020.
Aaron Santa Anna,
Federal Register Liaison, U.S. Department of Housing and Urban Development.

[FR Doc. 2020-06439 Filed 3-27-20; 8:45 am]

BILLING CODE 4210-67-P